NUCLEAR REGULATORY COMMISSION

Agency Information Collection Activities: Proposed Collection: Comment Request

AGENCY: U.S. Nuclear Regulatory Commission (NRC).

ACTION: Notice of pending NRC action to submit an information collection request to OMB and solicitation of public comment.

SUMMARY: The NRC is preparing a submittal to OMB for review of continued approval of information collection under the provisions of the Paperwork Reduction Act of 1995 (44 U.S.C. Chapter 35).

Information pertaining to the requirement to be submitted:

1. The title of the information collection: NRC Form 212, Qualifications Investigation, and NRC Form 212A, Qualifications Investigation Secretarial/Clerical.

2. Current OMB approval number: 3150-0033 for NRC 212 3150-0034 for NRC 212A.

3. How often the collection is required: Ongoing.

4. Who is required or asked to report: Current/Former supervisors, co-workers.

5. The number of annual respondents: NRC Form 212, 1400 annually; NRC Form 212A, 300 annually.

6. The number of hours needed annually to complete the requirement or request: NRC Form 212, 350 hours (15 minutes per response); NRC Form 212A, 75 hours (15 minutes per response).

7. Abstract: Information requested on NRC Forms 212 and 212A is used to determine the qualifications and suitability of external applicants for employment in professional and secretarial or clerical positions with the NRC. The completed form may be used to examine, rate and/or assess the prospective employee's qualifications. The information regarding the qualifications of applicants for employment is reviewed by professional personnel of the Office of Human Resources, in conjunction with other information in the NRC files, to determine the qualifications of the applicant for appointment to the position under consideration.

Submit, by June 18, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, room O-1 F23. Rockville, MD 20852. OMB clearance requests are available at the NRC worldwide web site (http://www.nrc.gov/NRC/PUBLIC/OMB/index.html). The document will be available on the NRC home page site for 60 days after the signature date of this notice.

Comments and questions about the information collection requirements may be directed to the NRC Clearance Officer, Brenda Jo. Shelton, U.S. Nuclear Regulatory Commission, T-6 E6, Washington, DC. 20555-0001, or by telephone at (301) 415-7233, or by Internet electronic mail at BJS1@NRC.GOV.

Dated at Rockville, Maryland, this 11th day of April, 2001.
For the Nuclear Regulatory Commission.
Brenda Jo. Shelton,
NRC Clearance Officer, Office of the Chief Information Officer.

[FR Doc. 01-9474 Filed 4-16-01; 8:45 am]

BILLING CODE 7590-01-P